DEPARTMENT OF AGRICULTURE

Food Safety and Inspection Service

[Docket No. FSIS-2010-0036]

Codex Alimentarius Commission: Meeting of the Codex Committee on Fish and Fishery Products

AGENCY: Office of the Under Secretary for Food Safety, USDA.

ACTION: Notice of public meeting and request for comments.

SUMMARY: The Office of the Under Secretary for Food Safety, U.S. Department of Agriculture (USDA), and the Center for Food Safety and Applied Nutrition, Food and Drug Administration (FDA), are sponsoring a public meeting on March 16, 2011. The objective of the public meeting is to provide information and receive public comments on agenda items and draft United States (U.S.) positions that will be discussed at the 31st session of the Codex Committee on Fish and Fishery Products (CCFFP) of the Codex Alimentarius Commission (Codex), which will be held in Tromso, Norway, April 11-16, 2011. The Under Secretary for Food Safety and FDA recognize the importance of providing interested parties the opportunity to obtain background information on the 31st session of the CCFFP and to address items on the agenda.

DATES: The public meeting is scheduled for March 16, 2011, from 1 p.m. to 4 p.m.

ADDRESSES: The public meeting will be held at FDA, in the Harvey W. Wiley Building, Auditorium (1A003), 5100 Paint Branch Parkway, College Park, MD 20740.

Documents related to the 31st session of the CCFFP will be accessible via the World Wide Web at the following address: http://www.codexalimentarius.net/current.asp.

Donald Kraemer, U.S. Delegate to the 31st session of the CCFFP, and FDA, invites interested U.S. parties to submit their comments electronically to the following e-mail address: Donald.Kraemer@fda.hhs.gov.

Call-In Number

If you wish to participate in the public meeting for the 31st session of the CCFFP by conference call, please use the call-in number and participant code listed below.

Call-in Number: 1-866-692-3158

Participant Code: 5986642

For Further Information About the 31st Session of the CCFFP Contact: Donald Kraemer, Acting Director, Office of Seafood, Center for Food Safety and Applied Nutrition, FDA, 5100 Paint Branch Parkway, College Park, MD 20740, phone: (301) 436-2300, fax: (301) 436-2599, e-mail: Donald.Kraemer@fda.hhs.gov.

For Further Information About the Public Meeting Contact: Kenneth Lowery, U.S. Codex Office, 1400 Independence Avenue, SW., Room 4861, Washington, DC 20250, phone: (202) 690-4042, fax: (202) 720-3157, e-mail: Kenneth.Lowery@fsis.usda.gov.

SUPPLEMENTARY INFORMATION:

Background

Codex was established in 1963 by two United Nations organizations, the Food and Agriculture Organization (FAO) and the World Health Organization (WHO). Through adoption of food standards, codes of practice, and other guidelines developed by its committees, and by promoting their adoption and implementation by governments, Codex seeks to protect the health of consumers and ensure that fair practices are used in trade.

The CCFFP is responsible for elaborating worldwide standards for fresh, frozen (including quick frozen) or otherwise processed fish, crustaceans, and mollusks.

The CCFFP is hosted by Norway.

Issues To Be Discussed at the Public Meeting

The following items on the agenda for the 31st session of the CCFFP will be discussed during the public meeting:

• Matters Referred to the CCFFP, Codex, and Other Codex Committees.

• Matters Arising from the Work of the FAO and WHO.

• Draft Standard for Fish Sauce.

• Draft Standard for Smoked Fish, Smoke-Flavoured Fish and Smoke Dried Fish.

• Proposed Draft Code of Practice for Fish and Fishery Products (Other Sections Including Smoked Fish).

• Proposed Draft Amendment to Section 3.4.5.1 Water Code of Practice for Fish and Fishery Products.

• Proposed Draft Standard for Quick Frozen Scallop Adductor Muscle Meat.

• Proposed Draft Code of Practice on the Processing of Scallop Meat.

• Proposed Draft Revision of the Procedure for the Inclusion of Additional Species in Standards for Fish and Fishery Products.

• Proposed Draft List of Methods for Determination of Biotoxins in the Standard for Raw and Live Bivalve Mollusks.

• Proposed Draft Standards for Fresh/Live and Frozen and Frozen Abalone (Haliotis spp.).

• Proposed Draft Amendment to the Standard for Quick Frozen Fish Sticks.

• Proposed Food Additive Provisions in Standards for Fish and Fishery Products.

• Model Certificates.

Each issue listed will be fully described in documents distributed, or to be distributed, by the Secretariat prior to the meeting. Members of the public may access copies of these documents (see ADDRESSES).

Public Meeting

At the March 16, 2011, public meeting, draft U.S. positions on the agenda items will be described and discussed, and attendees will have the opportunity to pose questions and offer comments. Written comments may be offered at the meeting or sent to the U.S. Delegate for the 31st session of the CCFFP, Donald Kraemer (see ADDRESSES). Written comments should state that they relate to activities of the 31st session of the CCFFP.

USDA Nondiscrimination Statement

USDA prohibits discrimination in all its programs and activities on the basis of race, color, national origin, gender, religion, age, disability, political beliefs, sexual orientation, and marital or family status. (Not all prohibited bases apply to all programs.)

Persons with disabilities who require alternative means for communication of program information (Braille, large print, audiotape, etc.) should contact USDA's Target Center at 202-720-2600 (voice and TTY).

To file a written complaint of discrimination, write USDA, Office of the Assistant Secretary for Civil Rights, 1400 Independence Avenue, SW., Washington, DC 20250-9410 or call 202-720-5964 (voice and TTY). USDA is an equal opportunity provider and employer.

Additional Public Notification

Public awareness of all segments of rulemaking and policy development is important. Consequently, in an effort to ensure that the public and in particular minorities, women, and persons with disabilities, are aware of this notice, FSIS will announce it on-line through the FSIS Web page located at http://www.fsis.usda.gov/regulations_&_policies/Federal_Register_Notices/index.asp.

FSIS also will make copies of this Federal Register publication available through the FSIS Constituent Update, which is used to provide information regarding FSIS policies, procedures, regulations, Federal Register notices, FSIS public meetings, and other types of information that could affect or would be of interest to our constituents and stakeholders. The Update is communicated via Listserv, a free e-mail subscription service consisting of industry, trade, and farm groups, consumer interest groups, allied health professionals, scientific professionals, and other individuals who have requested to be included. The Update also is available on the FSIS Web page. Through Listserv and the Web page, FSIS is able to provide information to a much broader, more diverse audience. In addition, FSIS offers an e-mail subscription service which provides automatic and customized access to selected food safety news and information. This service is available at http://www.fsis.usda.gov/News_&_Events/Email_Subscription/.

Options range from recalls, export information, regulations, directives, and notices. Customers can add or delete subscriptions themselves, and have the option to password protect their accounts.

Done at Washington, DC on: February 18, 2011.
Karen Stuck,
U.S. Manager for Codex Alimentarius.

[FR Doc. 2011-4265 Filed 2-24-11; 8:45 am]

BILLING CODE 3410-DM-P